DEPARTMENT OF THE INTERIOR

Bureau of Land Management

[LLCAD07000 L51010000 ER0000 16X LVRWB09B1670]

Notice of Intent To Prepare a Supplemental Environmental Impact Statement for the Proposed United States Gypsum Company Mine Expansion/Modernization Project, Imperial County, CA

AGENCY: Bureau of Land Management, Department of the Interior.

ACTION: Notice.

SUMMARY: In compliance with the National Environmental Policy Act of 1969, as amended (NEPA), and the Federal Land Policy and Management Act of 1976, as amended, the Bureau of Land Management (BLM) El Centro Field Office, with the United States Army Corps of Engineers (USACE) as a cooperating agency, intends to prepare a Supplemental Environmental Impact Statement (EIS) for the United States Gypsum Company (USG) Mine Expansion/Modernization Project. The Supplemental EIS will analyze additional alternatives and update technical information in the 2008 USG Mine Expansion/Modernization Project Final Environmental Impact Report (EIR)/EIS. The USACE was not involved in the development of the EIR/EIS, but will be involved with the Supplemental EIS, based on USACE's jurisdiction by law and special expertise, pursuant to section 404 of the Clean Water Act. Scoping is not usually required for preparation of a Supplemental EIS. However, since USACE was not a cooperating agency during scoping of the EIR/EIS, they have requested that public scoping be included for the Supplemental EIS.

This notice announces the beginning of the public scoping process for input into the Supplemental EIS. The goal of the scoping process is to solicit public comments, for the purpose of identifying relevant issues that will influence the scope of the environmental analysis, including alternatives, and guide the process for developing the Supplemental EIS.

DATES: Comments for input into the Supplemental EIS may be submitted in writing until January 11, 2018. A public scoping meeting will be announced at least 15 days in advance through local newspaper(s), the BLM Web site, BLM Newsbytes, and BLM social media. All comments received during the scoping period will be considered for input into the Supplemental EIS. In order to be included in the Supplemental EIS, all comments must be received prior to the close of the 45-day scoping period or 15 days after the last public meeting, whichever is later. Additional opportunities for public participation will be provided upon publication of a Draft Supplemental EIS. Upon completion of the public review and comment period of the Draft Supplemental EIS, a Final Supplemental EIS will be prepared and subsequently published for public review.

ADDRESSES: You may submit comments on issues related to the Supplemental EIS by any of the following methods: Email: lgreenhalgh@blm.gov; Fax: 530-224-2172; or Mail: Attn: Susie Greenhalgh, BLM Northern California District Office, 6640 Lockheed Drive, Redding, CA 96002.

FOR FURTHER INFORMATION CONTACT: Susie Greenhalgh, BLM Northern California District Office, 6640 Lockheed Drive, Redding, CA 96002; phone: 530-224-2142; email: lgreenhalgh@blm.gov. Contact Ms. Greenhalgh to have your name added to our mailing list. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The USG's mine expansion/modernization project (Project) involves both the Plaster City Wallboard Plant (Plant) and Plaster City Quarry (Quarry). The Plant is located on Evan Hewes Highway in Plaster City, CA, approximately 18 miles west of the city of El Centro. The Quarry is located on Split Mountain Road approximately 26 miles northwest of Plaster City. Both sites are located within the BLM's California Desert Conservation Area. Components of the expansion project originally analyzed in the EIR/EIS included water delivery systems to the wallboard plant and quarry, a new electrical transmission line, and maintenance of an existing tram road using narrow gauge rail line between the Plant and Quarry. Certain aspects of the project have already been implemented under the conditions and approvals provided by Imperial County and may not be subject to the jurisdiction of the BLM or the USACE.

The surface disturbance analyzed in the 2006 Draft EIR/EIS and the 2008 Final EIR/EIS included operations on placer mining claims and mill sites on BLM land totaling 407.9 acres. Since then, 304.57 acres of these mining claims were patented, subject to regulations as may be prescribed by the Secretary of the Interior to protect the scenic, scientific, and environmental values of the public lands within the California Desert Conservation Area. Pursuant to 43 CFR 3809.2(c), lands patented with this stipulation must comply with the regulations at 43 CFR 3809.

Consequently, the Supplemental EIS will update land ownership changes since completion of the 2006/2008 environmental documents, but the analysis of the applicable regulations and impacts will not need to be changed because of the change in land ownership.

Additionally, USG submitted two right of way applications for the utility access across approximately 55.7 acres of BLM-managed land. BLM's involvement consists of responding to a plan of operations, the two right of way applications, and any other project needs that may be discovered during the scoping process. USG also submitted a request for a Clean Water Act (CWA) Section 404 Permit to the USACE for expansion of operations into alluvial portions of the quarry. USACE's involvement consists of responding to the Section 404 Permit.

At present, the following preliminary issues have been identified: hydrology and water resources, threatened and endangered species, realty/right-of-ways, mineral resources, and cultural resources. The BLM will identify, analyze, and require mitigation, as appropriate, to address the reasonably foreseeable impacts to resources from the project. The BLM will utilize and coordinate the NEPA process to help fulfill the public involvement process under the National Historic Preservation Act (54 U.S.C. 306108) as provided in 36 CFR 800.2(d)(3). The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed USG Project that the BLM and USACE are evaluating, are invited to participate in the public scoping process and, if eligible, may request or be requested by the BLM to participate in the development of the environmental analysis as a cooperating agency.

In December 2001, Imperial County, California, published the Notice of Preparation of the joint EIR/EIS for the USG Expansion/Modernization Project pursuant to the California Environmental Quality Act (CEQA). As the lead agency for the project under NEPA, the BLM issued a Notice of Intent to prepare a joint EIR/EIS in the Federal Register on May 1, 2002 (67 FR 21713). A Draft EIR/EIS was prepared for the project and was circulated for comment by the public and other interested agencies from April 17, 2006, to July 17, 2006. The BLM also initiated consultation with the USFWS pursuant to Section 7 of the Endangered Species Act (ESA). A Final EIR/EIS responding to comments was released in January of 2008.

On March 18, 2008, the Imperial County Board of Supervisors certified the EIR and adopted findings of fact, a statement of overriding considerations, and a mitigation monitoring program in compliance with CEQA. The Imperial County Board of Supervisors filed a Notice of Determination on March 19, 2008. On March 14, 2008, the BLM published in the Federal Register the Notice of Availability of the USG Expansion/Modernization Project Final EIR/EIS (73 FR 13918). The BLM did not issue a ROD because its ESA Section 7 consultation requirements were still pending.

USG proceeded to conduct quarrying operations within its private land at the Quarry under the conditions and approvals provided by Imperial County and the State of California consistent with stipulations outlined by the County. Under existing conditions, USG holds title to 2,032.2 acres of private land of which 1,118.7 acres are approved by Imperial County for mining. In order to proceed with phased quarry operations consistent with production demands and an approved Mine Reclamation Plan, USG proposes to initiate alluvial quarrying activities in undisturbed portions of its mine plan. Proposed project activities related to alluvial quarrying will require a CWA Section 404 Permit from the USACE. The USACE was not a cooperating agency in the development of the USG Expansion/Modernization Project Final EIR/EIS.

In March 2014, USG submitted a request for a Clean Water Act (CWA) Section 404 Permit to the USACE for expansion of operations into alluvial portions of the quarry, Phase 2 and 2P of the Quarry's mine plan. The USACE determined in its initial evaluation of the application that an EIS-level analysis may be required to evaluate impacts to waters of the U.S., including a CWA Section 404(b)(1) alternatives analysis (pursuant to 40 CFR part 230). The USACE could not adopt the USG Final EIR/EIS, per Federal regulations at 40 CFR 1506.3(c), because the USACE was not a cooperating agency at the time of the development of the EIR/EIS. Furthermore, the BLM did not complete its ESA Section 7 consultation requirements or issue a Record of Decision (ROD) based on the Final EIR/EIS.

Public Comments: Before including your address, phone number, email address, or other personally identifying information in your comment, you should be aware that your entire comment—including your personally identifying information—may be made publicly available at any time. While you can ask us in your comment to withhold your personal identifying information from public review, we cannot guarantee that we will be able to do so.

Authority: 40 CFR 1501.7.

Thomas F. Zale,
El Centro Field Manager.

[FR Doc. 2017-25523 Filed 11-24-17; 8:45 am]

BILLING CODE 4310-40-P